DEPARTMENT OF DEFENSE

Department of the Army

Corps of Engineers Availability of Exclusive or Partially Exclusive Licenses

AGENCY: U.S. Army Corps of Engineers, DoD.

ACTION: Notice.

SUMMARY: The Department of the Army, U.S. Army Corps of Engineers, announces the general availability of exclusive, or partially exclusive licenses under the following pending patents. Any license granted shall comply with 35 U.S.C. 209 and 37 CFR Part 404.

Serial Number: 09/229,161.

Filing Date: 1/13/99.

Title: Method for Attaching Fabric and Floor Covering Materials to Concrete.

Serial Number: 09/397,071.

Filing Date: 9/16/99.

Title: Groundwater Flow Measuring System.

Serial Number: 09/408,911.

Filing Date: 9/30/99.

Title: Retrievable Filter Element for Subsurface Drainage.

Serial Number: 09/418,367.

Filing Date: 10/14/99.

Title: A Method for Measuring Depths of a Waterway and for Determining Vertical Positions of a Waterborne Vessel.

Serial Number: 09/418,481.

Filing Date: 10/15/99.

Title: Method of CEL Hybrid Modeling for Simulation of Ecosystem-Level Processes in Aquatic Environments.

Serial Number: 09/418,482.

Filing Date: 10/15/99.

Title: Method and System Capable of Performing a Substantially Continuous Uptake During a Trawling Operation.

Serial Number: 09/432,213.

Filing Date: 11/3/99.

Title: A Wearable Computer Configured for Geophysical Radar Profiling Applications.

Serial Number: 09/551,860.

Filing Date: 4/18/00.

Title: Instrument Channel Approach.

Serial Number: 09/553,613.

Filing Date: 4/20/2000.

Title: Method and Apparatus for Measuring and Assessing Corrosive Conditions of a Surface by a Remotely Controlled Robotic Vehicle.

Serial Number: 09/564,030.

Filing Date: 5/4/2000.

Title: Method and Apparatus for Installing a Small-scale Groundwater Sampling Well.

Serial Number: 09/572,942.

Filing Date: 5/18/2000.

Title: Method of Manufacturing Cement Board Incorporating Recycled Carpet Fiber and Cement Board Made in Accordance Therewith.

Serial Number: 09/628,940.

Filing Date: 7/28/00.

Title: Bag Dispenser.

Serial Number: 09/628,941.

Filing Date: 7/28/00.

Title: Detection of Sub-Surface Failures in Barriers

DATES: Applications for an exclusive or partially exclusive license may be submitted at any time from the date of this notice. However, no exclusive or partially exclusive license shall be granted until 90 days from the date of this notice.

ADDRESSES: Humphreys Engineer Center Support Activity, Office of Counsel, 7701 Telegraph Road, Alexandria, Virginia 22315-3860.

FOR FURTHER INFORMATION CONTACT: Patricia L. Howland (703) 428-6672.

SUPPLEMENTARY INFORMATION: Title: Method for Attaching Fabric and Floor Covering Materials to Concrete. A method of bonding a variety of moisture-sensitive materials, such as vinyl, wood, pressed boards, and textile materials to concrete, utilizing a steel foil or plate layer as an effective vapor barrier, that protects the adhesive beneath the floor covering from the moisture which moves through the concrete, preventing the adhesive bonding between the covering material, such as carpeting, and the concrete from failing, preventing permeation of moisture from the concrete to the adhesive bonding area, protecting the concrete and the covering material from premature weathering and providing a surface for paint or spray-on coatings.

Title: Groundwater Flow Measuring System. An apparatus and method of measuring and monitoring groundwater flow at extremely low seepage velocities (0.1-1.0 ft/day). The use of temperature sensors with a linear temperature response, as opposed to the highly nonlinear temperature response provided by thermistors, employs a groundwater monitoring probe comprising a central electric heater and three or more temperature sensors surrounding the heater, which are immersed in the groundwater in a slotted, perforated, or screened section of a casing inserted in a monitoring well, and which are electrically connected to electronic measuring, computing, and recording means at the surface.

Title: Retrievable Filter Element for Subsurface Drainage. The filter elements and process for constructing leach fields. The filter elements are assembled by placing rubber or plastic scrap pieces, in the form of chips, in net sacks. The net sacks containing the aggregate are attached to pieces of fabric filter cloth, which may be wrapped around the net sacks or draped around adjacent filter elements so that the soil surrounding the net sacks cannot infiltrate into the enclosed aggregate chips, but water draining into the aggregate chips can escape through the filter cloth into the surrounding soil.

Title: A Method for Measuring Depths of a Waterway and for Determining Vertical Positions of a Waterborne Vessel. A method for determining, on a continuous basis, the clearance between the bottom of a waterborne vessel and the bottom of a waterway.

Title: Method of CEL Hybrid Modeling for Simulation of Ecosystem-Level Processes in Aquatic Environments. A method for coupling Eulerian and Lagrangian reference frames so higher tropic levels of an aquatic ecosystem, such as fish and shellfish, can be systematically and realistically simulated, allowing for the analysis of higher tropic level processes with minimal distortion and loss of information by coupling two frames of reference and exploiting the advantages associated with each.

Title: Method and System Capable of Performing a Substantially Continuous Uptake During a Trawling Operation. A trawler method and system achieving an increased consumption ratio of catch-to-bycatch during the trawling operation, reducing the mortality of the bycatch in commercial trawling, and also minimizing loss of the target species.

Title: A Wearable Computer Configured for Geophysical Radar Profiling Applications. A portable, lightweight system, fully integrated for using penetrating ground radar for taking simplified field geophysical measurements and can be operated from the body of an operator while the operator is moving. The system operates for extended periods of time using light-weight portable rechargeable and replaceable batteries and facilitates continuous, glare-free viewing of computer screens associated with the scanning system. The computer-controlled radar system boards are easily changeable for a wide variety of different environments. Real-time viewing of radar data and integration with other real-time data input sources create an integrated data stream with accurate time correlation between all data inputs.

Title: Instrument Channel Approach. A system to determine the water depth in a channel or harbor below a low water reference permitting the navigation of a channel or harbor having a reference GPS signal receiving station on land which sends information to a ship with its GPS signal receiving system.

Title: Method and Apparatus for Measuring and Assessing Corrosive Conditions of a Surface by a Remotely Controlled Robotic Vehicle. A remotely controlled robotic vehicle is used for inspecting the interior of ferrous structures such as liquid storage tanks without removing the stored liquid. The robotic vehicle cleans the surface of debris and corrosive deposits prior to inspection, measures and assesses wall integrity and thickness, and communicates the results to a computer which continuously ascertains the position of the robotic vehicle. The robotic vehicle can navigate in various orientations, including vertical and inverted orientations throughout the interior of a substantially cylindrical tank.

Title: Method and Apparatus for Installing a Small-scale Groundwater Sampling Well. A method and apparatus for installing a small-scale groundwater sampling device which is easy to construct and inexpensive to manufacture. The device can be used by the conventional push-in equipment associated with a civil engineering cone penetrometer. The conventional penetrometer can install a well that can be used for continuous monitoring of groundwater quality using two penetrometer operators with only one or two hours of work and uses the same design that the U.S. EPA requires for a full-scale monitoring well. The installation of the well is done by pushing and not drilling and does not generate any well cuttings which typically have to be tested prior to disposal to determine if the soil is contaminated.

Title: Method of Manufacturing Cement Board Incorporating Recycled Carpet Fiber and Cement. A method of manufacturing a smooth surface cement board incorporating recycled carpet fiber which produces a strong cement board even with a fluid mortar. Air-filled voids or “bugholes” are eliminated. The use of tangled fibers produces a cement board in which the fiber has high pull-out resistance. The mixed fiber and mortar can be placed as a discrete layer thereby making it possible to make a cement board that has two exterior layers containing fiber and a central layer containing only mortar.

Title: Bag Dispenser. Plastic, paper, aluminum foil, or aluminum foil laminated with plastic bags are dispensed, one at a time, from a bag dispenser. Bags are either provided in rolls connected top-to-top and bottom-to-bottom, nested with one bag inside the next adjacent bag, or are nested and attached to a perforated central tab that passes through the bottom seam of each bag, which may be placed in a funnel-like dispenser that holds the nested bags in an upright position.

Title: Detection of Sub-Surface Failures in Barriers. An early warning method to remotely and continually monitor the structural integrity of a barrier such as levees and dams. Failure mechanisms due to the existence of water or moisture content within the structure and structural irregularities due to changes in moisture content such as boils are detected in their early stages thus allowing remedial measures.

Richard L. Frenette,
Counsel.

[FR Doc. 00-32630 Filed 12-21-00; 8:45 am]

BILLING CODE 3710-92-U